ENVIRONMENTAL PROTECTION AGENCY

[FRL-7252-6]

EPA Science Advisory Board, Contaminated Sediments Science Plan Panel; Request for Nominations

AGENCY: Environmental Protection Agency.

ACTION: Notice; request for nominations to serve on the Contaminated Sediments Science Plan Panel of the U. S. Environmental Protection Agency's Science Advisory Board.

SUMMARY: The U.S. Environmental Protection Agency's (Agency, EPA) Science Advisory Board (SAB) is announcing the formation of a Contaminated Sediments Science Plan Panel and its solicitation of nominations of qualified individuals to serve on this Panel.

The SAB provides independent scientific and technical advice to the EPA Administrator on Agency positions; in this case, the SAB will advise on a Contaminated Sediments Science Plan that the Agency will use to develop and coordinate Agency-wide science activities in the area of contaminated sediments. Those selected to serve on the SAB's Contaminated Sediments Science Plan Panel will review the Science Plan in the Autumn of 2002.

The approved policy under which the EPA Science Advisory Board selects review panels is described in a recent SAB Commentary [EPA Science Advisory Board (SAB) Panel Formation Process: Immediate Steps to Improve Policies and Procedures—An SAB Commentary (EPA-SAB-EC-COM-002-003), which can be found on the SAB website (http://www.epa.gov/sab) at http://www.epa.gov/sab/ecm02003.pdf.]

Any interested person or organization may nominate qualified individuals for membership on the Panel. Nominations (preferably in electronic format) must include the individual's name, occupation, position, qualifications to address the issue, and contact information (i.e., telephone number, fax number, mailing address, email, and/or Website). To be considered, all nominations must include a current bio, CV or resume (preferably electronic in MSWord or WordPerfect) providing information on the nominee's background, experience, and qualifications for this Panel.

The SAB staff asks that nominations be provided in the following way:

1. Send the nomination by e-mail to: martin.lawrence@epa.gov.

2. Use one email per person being nominated.

3. Please use “contaminated sediments” in the subject field, followed by the last name of the candidate you are nominating. (For example, “Contaminated Sediments: Smith).

4. Attach supporting information in MS Word or WordPerfect files ending in “.doc” or “.wpd”.

5. In a separate file from the bio, CV or resume, please provide the following information in the order shown:

For the Nominating Individual:

First Name:

Last Name:

Email Address:

Organization Title:

Mailing Address:

Work Phone:

Work Fax:

For the Candidate being nominated:

First Name:

Last Name:

Professional Title:

Department:

School or Unit:

University or Organization:

Mailing Address:

Work Phone:

Fax Work Phone:

Email Address:

Website for CV (if one exists):

Nominator's Assessment of Expertise: The following areas of expertise will be useful in this review. Please indicate the areas of expertise the candidate could contribute:

• Human health effects assessment (particularly in persistent, bioaccumulative & toxic materials, e.g. PCBs)

• Ecological effects assessment (particularly in persistent, bioaccumulative and toxic materials, e.g. PCBs)

• Physico-chemical nature of sediments

• Soil contamination remediation technologies

• Baseline and post remediation site monitoring

• Risk communication to the public

• Information data management systems

• Ecological fate and transport modeling of contaminants in surface waters and sediments

• Exposure assessment

• Cost-benefit valuation

Background: The Contaminated Sediments Science Plan is a mechanism for the U.S. Environmental Protection Agency (EPA) to develop and coordinate Agency-wide science activities in the contaminated sediments area. Along with the EPA's contaminated sediments science activities database, this plan provides an analysis of the current Agency science activities in this area, identifies and evaluates the science gaps, and provides a strategy for filling these gaps.

The Contaminated Sediments Science Plan has three goals to promote the vision of providing a strong scientific basis for addressing contaminated sediments: (1) To develop and disseminate the tools and science necessary to address the management of contaminated sediments; (2) To enhance the level of coordination and communication of science activities dealing with contaminated sediments across the EPA's Progam and Regional Offices and the Office of Research and Development; and (3) To develop an effective, cost-efficient strategy to promote these scientific activities and research.

To allow interested parties to view the Draft Contaminated Sediments Science Plan, which is receiving public comment, the July 22, 2002 Federal Register (Volume 67, Number 140, Notices, Pages 47798-47800) announced the following Internet Web addresses for viewing the Plan: http://www.epa.gov/superfund/action/guidance/cssp.pdf and http://www.epa.gov/superfund/action/guidance/cssp-appendix.pdf.

For technical inquiries, you may contact Lee Hofmann, Office of Solid Waste and Emergency Response, Mail Code 5103T, U.S. Environmental Protection Agency, 1200 Pennsylvania Ave., NW., Washington, DC 20460 at telephone number 202-566-1928, or by e-mail at: hofmann.lee@epa.gov.

Charge to the Panel: Details of the Charge may change as a result of discussions between the Agency and the Panel. Updates will be posted on the SAB Website: (www.epa.gov/sab).

The EPA solicits comments from the U.S. Environmental Protection Agency's Science Advisory Board on all aspects of the draft science plan. In particular, the EPA requests comments and information on the following questions contained in the current draft charge to the SAB panel:

1. The Contaminated Sediments Science Plan (Science Plan) is the first official Agency science plan of its kind designed to address a significant cross-agency environmental issue in a systematic and integrated fashion. Does the Science Plan adequately convey the need for such a strategic planning document, i.e., are the goals and objectives of the plan understandable and appropriate to the subject?

2. Are the major areas of contaminated sediments science (sediment site characterization, exposure assessment, human health effects and risk assessment, ecological effects and risk assessment, sediment remediation, baseline and post-remediation monitoring, risk communication, and information management and exchange activities) appropriately addressed? Are any major areas missing?

3. Are the key recommendations clearly defined and appropriate to resolve the science needs discussed in Chapter 3?

4. Are there other issues or key recommendations which should be considered in this Science Plan?

FOR FURTHER INFORMATION CONTACT: Nominations in electronic format should be submitted to martin.lawrence@epa.gov. Anyone unable to submit in electronic format should send the nomination paperwork to Mr. Lawrence Martin, Designated Federal Official (DFO), EPA Science Advisory Board, U.S. Environmental Protection Agency (1400A), 1200 Pennsylvania Avenue, NW., Washington, DC 20460, telephone (202) 564-6497; FAX (202) 501-0323. Nominations should arrive no later than August 14, 2002. The SAB will not formally acknowledge or respond to nominations.

The nominations received through this solicitation will be combined with other sources; e.g., the Agency, SAB members, and external outreach. From this larger group of nominees (termed the “WIDECAST”), a smaller subset (the “Short List”) will be identified for more detailed consideration. The Short List will include the names of candidates, a short biosketch of each candidate, and the names of those who nominated them. The Short List will be posted on the SAB Website (http://www.epa.gov/sab/fiscal02.htm) and public comments accepted on the expertise, conflict-of-interest, and apparent lack of impartiality (as defined by federal regulation) of individual candidates as well as on the overall balance of views represented on the Panel. At the SAB, a balanced panel is characterized by inclusion of the necessary domains of knowledge, the relevant scientific perspectives (which, among other factors can be influenced by work history and affiliation), and the collective breadth of experience to address the charge adequately.

Public reaction to the Short List candidates will be considered in the selection of the Panel, along with information provided by candidates and information gathered by SAB Staff independently on the background of each candidate. Criteria to be used in evaluating an individual panelist include: (a) Expertise, knowledge, and experience (primary factors); (b) Availability and willingness to serve; (c) Scientific credibility and impartiality; and (d) Skills working in committees and advisory panels.

Panel members will be asked to attend at least one public face-to-face meeting and, probably, several public conference call meetings over the anticipated 3-month course of the activity. The Executive Committee (EC) of the SAB will review the Panel's report in a public meeting and reach a judgment about its transmittal to the Administrator.

General Information—Additional information concerning the Science Advisory Board, its structure, function, and composition, may be found on the SAB Website (http://www.epa.gov/sab) and in the EPA Science Advisory Board FY2001 Annual Staff Report which is available from the SAB Publications Staff at (202) 564-4533 or via fax at (202) 501-0256, or at http://www.epa.gov/sab/annreport01.pdf.

Dated: July 24, 2002.
A. Robert Flaak,
Acting Deputy Director, EPA Science Advisory Board.

[FR Doc. 02-19225 Filed 7-29-02; 8:45 am]

BILLING CODE 6560-50-P